NUCLEAR REGULATORY COMMISSION

10 CFR Part 52

[NRC-2017-0090]

RIN 3150-AK04

Advanced Boiling Water Reactor (ABWR) Design Certification Renewal

AGENCY: Nuclear Regulatory Commission.

ACTION: Direct final rule; confirmation of effective date.

SUMMARY: The U.S. Nuclear Regulatory Commission (NRC) is confirming the effective date of September 29, 2021, for the direct final rule that was published in the Federal Register on July 1, 2021. This direct final rule amended NRC's regulations to certify the U.S. Advanced Boiling Water Reactor standard design so that applicants intending to construct and operate an U.S. Advanced Boiling Water Reactor standard design may do so by referencing the design certification rule.

DATES: Effective date: The effective date of September 29, 2021, for the direct final rule published July 1, 2021 (86 FR 34905), is confirmed.

ADDRESSES: Please refer to Docket ID NRC-2017-0090 when contacting the NRC about the availability of information for this action. You may obtain publicly-available information related to this action by any of the following methods:

• Federal Rulemaking Website: Go to https://www.regulations.gov and search for Docket ID NRC-2017-0090. Address questions about NRC dockets to Dawn Forder; telephone: 301-415-3463; email: Dawn.Forder@nrc.gov. For technical questions contact the individuals listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to pdr.resource@nrc.gov.

• Attention: The PDR, where you may examine and order copies of public documents, is currently closed. You may submit your request to the PDR via email at PDR.Resource@nrc.gov or call 1-800-397-4209 between 8:00 a.m. and 4:00 p.m. (EST), Monday through Friday, except Federal holidays.

• NRC's PDR: You may examine and purchase copies of public documents at the NRC's PDR, Room P1-B35, One White Flint North, 11555 Rockville Pike, Rockville, Maryland 20852.

FOR FURTHER INFORMATION CONTACT: Dennis Andrukat, Office of Nuclear Material Safety and Safeguards, telephone: 301-415-3561, email: Dennis.Andrukat@nrc.gov or James Shea, Office of Nuclear Reactor Regulation, telephone: 301-415-1388, email: James.Shea@nrc.gov. Both are staff of the U.S. Nuclear Regulatory Commission, Washington, DC 20555-0001.

SUPPLEMENTARY INFORMATION: On July 1, 2021 (86 FR 34905), the NRC published a direct final rule amending its regulations in part 52 of title 10 of the Code of Federal Regulations, “Domestic licensing of production and utilization facilities,” to renew the design certification for the U.S. Advanced Boiling Water Reactor (U.S. ABWR) standard design so that future applicants intending to construct and operate the renewed U.S. ABWR design may do so by referencing the design certification rule. In the direct final rule, the NRC stated that if no significant adverse comments were received, the direct final rule would become effective on September 29, 2021. The NRC did not receive any comments on the direct final rule. Therefore, this direct final rule will become effective as scheduled.

Paperwork Reduction Act Statement

This final rule does not contain any new or amended collections of information subject to the Paperwork Reduction Act of 1995 (44 U.S.C. 3501 et seq.). Existing collections of information were approved by the Office of Management and Budget (OMB), control number 3150-0151. The effective date of the information collection associated with this final rule is September 29, 2021.

Public Protection Notification

The NRC may not conduct or sponsor, and a person is not required to respond to, a collection of information unless the document requesting or requiring the collection displays a currently valid OMB control number.

Dated August 6, 2021.
For the Nuclear Regulatory Commission.
Richard F. Schofer,
Acting Chief, Regulatory Analysis and Rulemaking Support Branch, Division of Rulemaking, Environmental, and Financial Support, Office of Nuclear Material Safety and Safeguards.

[FR Doc. 2021-17115 Filed 8-11-21; 8:45 am]

BILLING CODE 7590-01-P